DEPARTMENT OF HEALTH AND HUMAN SERVICES

Health Resources and Services Administration

Agency Information Collection Activities: Submission to OMB for Review and Approval; Public Comment Request; Delta States Rural Development Network Grant Program, OMB No. 0915-0386—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than June 12, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 594-4394.

SUPPLEMENTARY INFORMATION:

Information Collection Request Title: Delta States Rural Development Network Grant Program—OMB No. 0915-0386—Revision.

Abstract: The Delta States Rural Development Network Grant (Delta) Program is authorized by the Public Health Service Act, section 330A(f) (42 U.S.C. 254c(f)). The Delta Program supports projects that demonstrate evidence based and/or promising approaches around cardiovascular disease, diabetes, acute ischemic stroke, or obesity in order to improve health status in rural communities throughout the Delta Region. Key features of Delta Program-supported projects are collaboration, adoption of an evidence-based approach, demonstration of health outcomes, program replicability, and sustainability. HRSA collects information from Delta Program award recipients using an OMB-approved set of performance measures and seeks to extend that approved information collection.

A 60-day notice published in the Federal Register on February 02, 2023, vol. 88, No. 22; pp. 7095-96. There were no public comments. Since the publication of the 60-day notice, HRSA has updated the estimated average burden per response from 1.66 hours to 2 hours, with a corresponding increase in the estimated total annual burden for this ICR.

Need and Proposed Use of the Information: For this program, performance measures were drafted to provide data useful to the program and to enable HRSA to provide aggregate program data required by Congress under the Government Performance and Results Act of 1993 (Pub. L. 103-62). These measures cover the principal topic areas of interest to HRSA including the following: (a) access to care, (b) population demographics, (c) staffing, (d) sustainability, (e) project specific domains, and (f) health related clinical measures. These measures encompass HRSA's progress toward meeting the goals set.

Likely Respondents: Grant recipients of the Delta Program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Delta States Rural Development Network Program Performance Improvement Measurement System | 12 | 1 | 12 | 2 | 24
Total | 12 | 1 | 12 | 2 | 24

These estimates were determined following consultations with three current Delta Program grantees. HRSA sent these grantees a draft of the questions that pertain to their projects. HRSA asked the grantees to estimate how much time it would take to answer the questions. HRSA expects the burden will vary across the grantees. This variation is tied primarily to the type of program activities specific to each grantee's project and current data collection system.

Maria G. Button,
Director, Executive Secretariat.

[FR Doc. 2023-10163 Filed 5-11-23; 8:45 am]

BILLING CODE 4165-15-P